DEPARTMENT OF COMMERCE

National Oceanic and Atmospheric Administration (NOAA)

50 CFR Part 660

[Docket No. 070323069-7117-02; I.D. 031907A]

RIN 0648-AV46

Pacific Coast Groundfish Fishery

AGENCY: National Marine Fisheries Service (NMFS), National Oceanic and Atmospheric Administration (NOAA), Commerce.

ACTION: Final rule.

SUMMARY: NMFS issues a final rule to establish catch accounting requirements for persons who receive, buy, or accept Pacific whiting deliveries of 4,000 pounds (lb) (1.18 mt) or more from vessels using midwater trawl gear during the Pacific whiting primary season for the shore-based sector. This action is intended to improve NMFS's ability to effectively monitor the Pacific whiting shoreside fishery such that catch of Pacific whiting and incidentally caught species, including overfished groundfish species, do not result in a species' optimum yield (OY), harvest guideline, allocations, or bycatch limits being exceeded. This action is also intended to provide for timely reporting of Chinook salmon take as specified in the Endangered Species Act (ESA) Section 7 Biological Opinion for Chinook salmon catch in the Pacific groundfish fishery. This action is consistent with the conservation goals and objectives of the Pacific Coast Groundfish Fishery Management Plan (FMP).

DATES: Effective October 5, 2007.

ADDRESSES: Copies of the Environmental Assessment/Regulatory Impact Review/Initial Regulatory Flexibility Analysis (EA/RIR/IRFA), Finding of No Significant Impact (FONSI), Initial Regulatory Flexibility Analysis (IRFA), Final Regulatory Flexibility Analysis (FRFA), and the Small Entity Compliance Guide are available from D. Robert Lohn, Administrator, Northwest Region, NMFS, 7600 Sand Point Way NE, Seattle, WA 98115-0070, phone: 206-526-6150.

Written comments regarding the burden-hour estimates or other aspects of the collection-of-information requirements contained in this final rule may be submitted to D. Robert Lohn, Administrator, Northwest Region, NMFS, 7600 Sand Point Way NE, Seattle, WA 98115-0070, and by e-mail to DavidRostker@omb.eop.gov, or by fax to (202) 395-7285.

FOR FURTHER INFORMATION CONTACT: Becky Renko, phone: 206-526-6110, fax: 206-526-6736, or e-mail: becky.renko@noaa.gov.

SUPPLEMENTARY INFORMATION:

Electronic Access

This Federal Register document is also accessible via the internet at the website of the Office of the Federal Register: www.gpoaccess.gov/fr/index.html.

Background

This action establishes an electronic catch accounting system and other monitoring improvements for the shore-based sector of the Pacific whiting fishery. The shore-based Pacific whiting fishery needs to have a catch reporting system in place that: provides timely reporting of catch data so that Pacific whiting, overfished species and Chinook salmon can be adequately monitored and accounted for inseason; and, specifies catch sorting and weight requirements necessary to maintain the integrity of data used to manage groundfish species OYs, trip limits, and bycatch limits.

This final rule applies to persons called “first receivers” (generally, first receivers are Pacific whiting shoreside processing facilities, but may also include entities that truck Pacific whiting to other facilities.) This final rule requires first receivers who receive, buy, or accept Pacific whiting deliveries of 4,000 lb (1.8 mt) or more from vessels using midwater trawl gear during the Pacific whiting primary season to have and use a NMFS-approved electronic fish ticket software or a NMFS-approved software that meets defined data export specifications, and to send catch reports to the Pacific States Marine Fish Commission (PSMFC) within 24 hours of when the catch is landed. Electronic fish ticket reports will be used to track catch allocations, bycatch limits and prohibited species catch. First receivers will provide the computer hardware, software, and internet access necessary to support the NMFS-approved software and provide for e-mail transmissions.

The electronic fish tickets are used to collect information similar to information currently required by the States of Washington, Oregon and California on fish receiving tickets or landing receipts (state fish tickets). These Federal regulations will be in addition to the existing state fish ticket requirements and will not replace any state recordkeeping or reporting requirements.

New sorting requirements are specified in this final rule for Pacific whiting catch received by first receivers, as deliveries may contain groundfish in excess of trip limits, unmarketable groundfish, prohibited species, and protected species that are not addressed by current groundfish regulations. In addition, Federal groundfish regulations are revised to require deliveries from vessels participating in the Pacific whiting shoreside fishery to be adequately sorted by species or species group, and the catch be weighed following offloading from the vessel and prior to transporting the catch. First receivers are required to report, on electronic fish tickets, actual and accurate weights derived from scales. If sorting and weighing requirements specified in Federal regulation are more stringent than state fish ticket requirements, the first receiver is required to follow Federal requirements for sorting, weighing, and reporting species or species groups on electronic fish ticket submissions.

This final rule is part of an ongoing process to develop a maximized retention program for the Pacific whiting shoreside fishery. At its June 11-15, 2007, meeting in Foster City, California, the Council will consider recommending a rulemaking for 2008 and beyond for a related action titled “A Maximized Retention and Monitoring Program for the Pacific Whiting Shoreside Fishery.”

Further detail on this action appears in the EA/RIR prepared by the NMFS for this action and in the proposed rule published on April 9, 2007 (72 FR 17469). NMFS requested public comment on the proposed rule through April 24, 2007. See the preamble to the proposed rule for additional background information on the fishery and on this rule.

Comments and Responses

NMFS received two e-mailed comments on the proposed rule: one email was received from a state government and the other email was from an industry organization. These comments are addressed here:

Comment 1: The commentor indicated that a reference on page 17470 of the proposed rule preamble, regarding the Pacific Fishery Management Council discussion on further rulemaking “at its April 2007 meeting,” should be revised or eliminated because the discussion did not occur.

Response: The preamble reference to Pacific Fishery Management Council discussion on further rulemaking has been revised in the final rule preamble to reference pending discussion at the June 11-15, 2007 Council meeting.

Comment 2: The commentor believes that the reliance on Research Group publications from 2006 based on 2004 fishery data, referenced on page 17471 of the proposed rule preamble, is questionable given the age of the data and the fact that no peer review of the information has been done for this analysis.

Response: NMFS recognizes that the Research Group publications are not peer reviewed documents. However, given the lack of available information on the West Coast seafood processing industry, NMFS must rely on various sorts of information to determine the classification of processing companies including determining whether various companies are “affiliated” according to Small Business Administration (SBA) standards. As stated in the analysis, the information was based on a review of company websites, state employment websites, and newpaper articles. The discussion drew no hard conclusions because the Research Group publications use data from various sources and such data may be of various vintages. NMFS believes that the information from the Research Group publications, although not peer-reviewed is credible supporting information given its consistency with other data sources. These publications are the only publications available that describe West Coast fishing industry in a manner useful for assessing ownership relationships between companies. NMFS believes it has used these Research publications in a credible manner as this information was used in conjunction with NMFS's own review of company websites, state employment websites, and newspaper articles. Because of this NMFS independent reviews, without the use of the Research Group publications, the same conclusions about company size and affiliation would have been made. The basic conclusion was that there appears to be 13 major Pacific whiting processors that can be grouped into nine SBA businesses based on analysis of affiliates and that among these businesses are three large and six small SBA businesses based on SBA size standards. One purpose of the IRFA is to solicit comments on the economic analysis in the proposed rule and whether the basic conclusions are reasonable. This comment was the only one received on the economic analysis and it only questions the use of Research Group publications, but not the basic conclusions. The use of non-peer reviewed information in its conclusions is noted in the classifications section of this document.

Comment 3: The commentor objects to the inclusion of the proposed § 660.306 (f)(6)(i), which prohibits a first receiver from receiving Pacific whiting from a vessel that does not have a properly functioning electronic monitoring system (EMS), unless a waiver for EMS coverage was granted by NMFS for that trip. The commentor believes that a first receiver on shore has no way of knowing whether a vessel's EMS is operating or not, or whether it was properly deployed while the vessel was harvesting Pacific whiting. The commentor suggests the language be modified to insert “knowingly” at the start of the sentence to enable enforcement action to be taken, but not lead to action against a processor who buys from a vessel in good faith.

Response: NMFS has modified the proposed language in § 660.306 (f)(6)(i) so that an undue burden is not placed on the first receivers in 2007. In response to this comment, NMFS has removed the language in § 660.306 (f)(6)(i). Maintaining the integrity of catch data includes knowing that each delivery was properly monitored at-sea. Therefore, NMFS encourages processors to obtain verification from the vessel operator, that the EMS was working properly or that a waiver for EMS coverage was granted to the vessel for that trip. NMFS intends to address this issue in its entirety in a related action titled “A Maximized Retention and Monitoring Program for the Pacific Whiting Shoreside Fishery.”

Comment 4: The commentor supports the language in § 660.373 (j)(1)(ii) indicating that first receivers have the choice of using either software supplied by the PSMFC or “NMFS-approved” software compatible with the software available from PSMFC. The commentor strongly supports having this choice, but believes it would be helpful to know what software is approved by NMFS and what format is considered compatible.

Response: In response to the commentor, NMFS has added clarifying language to § 660.373 (j)(1)(ii) which identifies where a first receiver may obtain the specifications for NMFS-approved software other than the software supplied by the PSMFC.

Comment 5: The commentor suggests that a definition be added for “Electronic fish tickets.”

Response: NMFS has added a definition for electronic fish tickets. The term is defined as a software program or data files meeting data export specifications approved by NMFS that is used to send landing data to the Pacific States Marine Fisheries Commission. Electronic fish tickets are used to collect information similar to the information required in state fish receiving tickets or landing receipts, but do not replace or change any state requirements.

Comment 6: The commentor suggests that the term “Pacific whiting shoreside vessel”, which has been defined in regulation, be used consistently throughout the regulations rather than using the terms “delivery vessel” and “catcher vessel” to describe the same group of vessels.

Response: NMFS has made the appropriate changes to the regulatory language.

Changes From the Proposed Rule

In response to the comments that were received, the following changes were made from the proposed rule: A definition for the term “Electronic fish ticket” was added to the regulations in § 660.302 Definitions; References to “delivery vessel” and “catcher vessel” were changed to Pacific whiting shoreside vessel in § 660.303, reporting and recordkeeping, paragraph (e)(1)(iii) and (iv)(B), and in § 660.306, prohibitions, (f)(6)(iii); and, in § 660.373, Pacific whiting fishery management, paragraph (j)(1)(ii)(A)(3) contact information for obtaining NMFS-approved software was added, proposed language in § 660.306 (f)(6)(i) was removed, and in paragraph (j)(1)(ii)(C)(3) the term first receivers was added.

Classification

An environmental assessment was prepared for this action. NMFS finds that no significant impact on the human environment will result from its implementation and has signed the Finding of No Significant Impacts (FONSI).

This final rule has been determined to be not significant for purposes of Executive Order 12866.

A final regulatory flexibility analysis (FRFA) was prepared. The FRFA incorporates the IRFA, and a summary of the analyses completed to support the action. A copy of this analysis is available from or NMFS (see ADDRESSES). A summary of the FRFA follows.

The Pacific whiting shoreside fishery needs to have a catch reporting system in place to: adequately track the incidental take of Chinook salmon as required in the ESA Section 7 Biological Opinion for Chinook salmon catch in the Pacific whiting fishery; and to track the catch of target and overfished groundfish species such that the fishing industry is not unnecessarily constrained and that the sector allocation and bycatch limits are not exceeded.

This action will allow NMFS to effectively manage the Pacific whiting fishery such that harvests of Pacific whiting and incidentally caught groundfish species, including overfished species, do not result in allocations, harvest guidelines, species' OY, or bycatch limits for overfished species being exceeded. One comment was received regarding the IRFA (see Comment 2 above). No changes to the proposed rule resulted from this comment. During 2006, 23 different processors/companies paid $17 million to fishers who delivered a combined 280 million lbs (127,002 mt) of Pacific whiting. A major processor is one that has purchased more than 1,000,000 lbs of Pacific whiting. There were 13 major Pacific whiting processors in 2006, with the remaining 10 processors all being minor processors, as their production levels ranged from 2 lbs to 7,000 lbs (3,175 kg). There were no processors in the 7,000 lb to 1,000,000 lb (4,536 kg) range. None of these minor processors were associated with a trawl landing that was greater than 4,000 lbs (1,814 kg) and so it is presumed they would be unaffected by these regulations. Note that not all minor entities are “processors” in the traditional sense since some of these entities may be fishers who directly sell their fish to a restaurant. These fishers, although they may be small businesses, are not affected because the direct sale of their landings would not be subject to this rule.

The SBA has established size criteria for all major industry sectors in the U.S. including fish harvesting entities, for-hire entities, fish processing businesses, and fish dealers. A business involved in fish harvesting is a small business if it is independently owned and operated and not major in the field of operation (including its affiliates) and if it has combined annual receipts not in excess of $3.5 million for all its affiliated operations worldwide. For-hire vessels are considered small entities, if they have annual receipts not in excess of $6 million. A seafood processor is a small business if it is independently owned and operated, not major in its field of operation, and employs 500 or few persons on a full-time, part-time, temporary, or other basis, at all its affiliated operations world wide. Finally, a wholesale business servicing the fishing industry (fish dealer) is a small business if it employs 100 or few persons on a full time, part-time, temporary, or other basis, at all its affiliated operations worldwide. Because of the lack of available information on the West Coast seafood processing industry, NMFS must rely on various sorts of information to determine the classification of processing companies including determining if various companies are “affiliated” according to SBA standards.

Based on the SBA criteria and a review of company websites, state employment websites, newspaper articles, personal communications, and non-peered review research documents, it appears that the 13 major Pacific whiting processors can be grouped into nine SBA businesses based on analysis of affiliates. Within these nine SBA businesses, there appears to be three “large” businesses, each of which generated at least $500 million in sales in 2003 and employ over over 500 employees each. In addition, there are six “small” businesses that participated in the shorebased Pacific whiting processing sector in 2006. Annual sales information for these “small” businesses is unavailable, but total ex-vessel revenues (the value of the fish purchased from fisherman) is available. In 2006, these six businesses purchased approximately $40 million in hake and other fish and shellfish from west coast fishermen. This compares to the $60 million in hake and other fish and shellfish purchased by the three large businesses. These regulations would require Pacific whiting shoreside processors to have and use a NMFS approved electronic fish ticket program to send daily catch reports. The electronic fish tickets are based on information currently required in state fish receiving tickets or landing receipts (fish tickets). In the States of Washington and California, processors would continue to complete and submit the required paper fish tickets on forms provided by the state and then transfer the same information to the electronic fish ticket for submission. In the State of Oregon, processors could either complete paper fish ticket forms provided by the state, or as is allowed by state law, they could submit a printed and signed copy of the electronic fish tickets. The majority of the companies affected appear to be small businesses.

Given the relatively small numbers of applicants, separate requirements based on size of business were not developed. To the extent possible, however, this final rule builds on existing state reporting requirements or on equipment that the companies typically already have. Therefore, implementation of these rules will require firms to bear minimal costs in reporting data electronically that they already are required to report on paper to the states. In terms of equipment purchases, it is expected that there will be few if any instances where processors have to purchase computers or software because this is equipment that most business already have. It is also not expected that processors will need to purchase scale equipment as the presumption about this final rule is that it enhances existing state regulations that already require processors to use scales in conducting their businesses but may not specifically require the use of scale weights in reporting fisheries data to state agencies. There may be some interest by a few small processors to weigh and count fish at locations other than the point of first landing, but these instances appear to be few.

Additional measures were taken to minimize the costs of the catch accounting requirements by providing: (1) fish ticket software at no cost; (2) fish ticket software that used a standard operating system and common software already owned by most businesses; (3) fish ticket software that is compatible with the existing fish ticket requirements in each of the three states; and, (4) software that can be used to print a paper copy for submission to the state, when state law allows. Because the information is already being gathered by the processors there is no requirement that additional data be gathered. Only the minimum data required to meet the objectives are requested from all applicants. There were no other alternatives to the proposed rule that accomplish the stated objectives. Under Status Quo, general catch sorting requirements and prohibited actions would continue to be specified for limited entry trawl vessel; each state would continue to specify requirements for landing reports. This alternative was rejected because it does not meet the defined need for accurate catch accounting.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, a public notice that also serves as small entity compliance guide (the guide) was prepared. The guide and final rule will be sent to all of the Pacific whiting shoreside processors that have been designated by the states of Washington, Oregon, or California as participants in the 2007 fishery. Copies of this final rule and the guide are available from the NMFS Northwest Regional Office (see ADDRESSES) and are available on our website at www.nwr.noaa.gov (Click on “Groundfish Fishery Management,” then on either “Public Notices” or “Whiting management”).

This final rule contains a collection-of-information requirement subject to the Paperwork Reduction Act (PRA) and which has been approved by OMB under control number 0648-0563. Public reporting burden for preparing and submitting electronic fish tickets is estimated to average ten minutes per individual response for Pacific whiting shoreside processors/first receivers in the states of California and Washington, and two minutes per individual response for Pacific whiting shoreside processors/first receivers in the State of Oregon, including the time for reviewing instructions, searching existing data sources, gathering and maintaining the data needed, and completing and reviewing the collected information. Send comments regarding these burden estimates or any other aspect of this data collection, including suggestions for reducing the burden, to NMFS (see ADDRESSES) and by e-mail to David_Rostker@omb.eop.gov, or fax to 202-395-7285.

Notwithstanding any other provision of the law, no person is required to respond to, and no person shall be subject to penalty for failure to comply with, a collection of information subject to the requirements of the PRA, unless that collection of information displays a currently valid OMB control number.

Pursuant to Executive Order 13175, this final rule was developed after meaningful consultation and collaboration with tribal officials from the area covered by the FMP. At the Council=s September and November 2006 meetings, NMFS informed the Council, which includes a tribal representative, of the intent to evaluate and implement catch accounting requirements for Pacific whiting shoreside processors. This action does not alter the treaty allocation of Pacific whiting, nor does it affect the prosecution of the tribal fishery.

List of Subjects in 50 CFR Part 660

Fisheries, Fishing, Indian fisheries.

Dated: August 29, 2007.
John Oliver,
Deputy Assistant Administrator for Operations, National Marine Fisheries Service.

For the reasons set out in the preamble, 50 CFR part 660 is amended as follows:

PART 660—FISHERIES OFF WEST COAST STATES

1. The authority citation for part 660 continues to read as follows:

Authority: 16 U.S.C. 1801 et seq.

2. In § 660.302, the definitions for “Electronic Fish Ticket”,“Electronic Monitoring System,” “Pacific whiting shoreside or shore-based fishery,” “Pacific whiting shoreside first receiver,” and “Pacific whiting shoreside vessel” are added to read as follows:

§ 660.302 Definitions.

* * * * *

Electronic fish ticket means a software program or data files meeting data export specifications approved by NMFS that is used to send landing data to the Pacific States Marine Fisheries Commission. Electronic fish tickets are used to collect information similar to the information required in state fish receiving tickets or landing receipts, but do not replace or change any state requirements.

Electronic Monitoring System (EMS) means a data collection tool that uses a software operating system connected to an assortment of electronic components, including video recorders, to create a collection of data on vessel activities.

* * * * *

Pacific whiting shoreside or shore-based fishery means Pacific whiting shoreside vessels and Pacific whiting shoreside first receivers.

Pacific whiting shoreside first receivers means persons who receive, purchase, or take custody, control, or possession of Pacific whiting onshore directly from a Pacific whiting shoreside vessel.

Pacific whiting shoreside vessel means any vessel that fishes using midwater trawl gear to take, retain, possess and land 4,000 lb (1,814 kg) or more of Pacific whiting per fishing trip from the Pacific whiting shore-based sector allocation for delivery to a Pacific whiting shoreside first receiver during the primary season.

* * * * *

3. In § 660.303, paragraph (a) is revised and paragraph (e) is added to read as follows:

§ 660.303 Reporting and recordkeeping.

(a) This subpart recognizes that catch and effort data necessary for implementing the PCGFMP are collected by the States of Washington, Oregon, and California under existing state data collection requirements.

* * * * *

(e) Participants in the Pacific whiting shoreside fishery. Reporting requirements defined in the following section are in addition to reporting requirements under applicable state law and requirements described at § 660.303(b).

(1) Reporting requirements for any Pacific whiting shoreside first receiver—(i) Responsibility for compliance. The Pacific whiting shoreside first receiver is responsible for compliance with all reporting requirements described in this paragraph.

(ii) General requirements. All records or reports required by this paragraph must: be maintained in English, be accurate, be legible, be based on local time, and be submitted in a timely manner as required in paragraph (e)(1)(iv) of this section.

(iii) Required information. All Pacific whiting shoreside first receivers must provide the following types of information: date of landing, Pacific whiting shoreside vessel that made the delivery, gear type used, first receiver, round weights of species landed listed by species or species group including species with no value, number of salmon by species, number of Pacific halibut, and any other information deemed necessary by the Regional Administrator as specified on the appropriate electronic fish ticket form.

(iv) Electronic fish ticket submissions. The Pacific whiting shoreside first receiver must:

(A) Sort all fish, prior to first weighing, by species or

species groups as specified at § 660.370 (h)(6)(iii).

(B) Include as part of each electronic fish ticket submission, the actual scale weight for each groundfish species as specified by requirements at § 660.373 (j)(2)(i) and the Pacific whiting shoreside vessel identification number.

(C) Use for the purpose of submitting electronic fish tickets, and maintain in good working order, computer equipment as specified at § 660.373 (j)(2)(ii)(A);

(D) Install, use, and update as necessary, any NMFS-approved software described at § 660.373 (j)(2)(ii)(B);

(E) Submit a completed electronic fish ticket for every landing that includes 4,000 lb (1,814 kg) or more of Pacific whiting (round weight equivalent) no later than 24 hours after the date the fish are received, unless a waiver of this requirement has been granted under provisions specified at paragraph (e)(1) (vii) of this section.

(v) Revising a submitted electronic fish ticket submission. In the event that a data error is found, electronic fish ticket submissions may be revised by resubmitting the revised form. Electronic fish tickets are to be used for the submission of final data. Preliminary data, including estimates of fish weights or species composition, shall not be submitted on electronic fish tickets.

(vi) Retention of records. [Reserved]

(vii) Waivers for submission of electronic fish tickets upon written request. On a case-by-case basis, a temporary written waiver of the requirement to submit electronic fish tickets may be granted by the Assistant Regional Administrator or designee if he/she determines that circumstances beyond the control of a Pacific whiting shoreside first receiver would result in inadequate data submissions using the electronic fish ticket system. The duration of the waiver will be determined on a case-by-case basis.

(viii) Reporting requirements when a temporary waiver has been granted. Pacific whiting shoreside first receivers that have been granted a temporary waiver from the requirement to submit electronic fish tickets must submit on paper the same data as is required on electronic fish tickets within 24 hours of the date received during the period that the waiver is in effect. Paper fish tickets must be sent by facsimile to NMFS, Northwest Region, Sustainable Fisheries Division, 206-526-6736 or by delivering it in person to 7600 Sand Point Way NE, Seattle, WA 98115. The requirements for submissions of paper tickets in this paragraph are separate from, and in addition to existing state requirements for landing receipts or fish receiving tickets.

(2) [Reserved]

4. In § 660.306, paragraphs (f)(6) is redesignated as (f)(7), and paragraph(b)(4) and a new (f)(6) are added to read as follows:

§ 660.306 Prohibitions.

* * * * *

(b) * * *

(4) Fail to comply with all requirements at § 660.303 (d); including failure to submit information, submission of inaccurate information, or intentionally submitting false information on any report required at § 660.303 (d) when participating in the Pacific whiting shoreside fishery.

* * * * *

(f) * * *

(6) Pacific whiting shoreside first receivers.

(i) [Reserved]

(ii) Fail to sort fish received from a Pacific whiting shoreside vessel prior to first weighing after offloading as specified at § 660.370 (h)(6)(iii) for the Pacific whiting fishery.

(iii) Process, sell, or discard any groundfish received from a Pacific whiting shoreside vessel that has not been weighed on a scale that is in compliance with requirements at § 660.373 (j)(1)(i) and accounted for on an electronic fish ticket with the identification number for the Pacific whiting shoreside vessel that delivered the fish.

(iv) Fail to weigh fish landed from a Pacific whiting shoreside vessel prior to transporting any fish from that landing away from the point of landing.

* * * * *

5. In § 660.370, paragraph (h)(6)(iii) is added to read as follows:

§ 660.370 Specifications and management measures.

* * * * *

(h) * * *

(6) * * *

(iii) Sorting requirements for the Pacific whiting shoreside fishery. Fish delivered to Pacific whiting shoreside first receivers (including shoreside processing facilities and buying stations that intend to transport catch for processing elsewhere) must be sorted, prior to first weighing after offloading from the vessel and prior to transport away from the point of landing, to the species groups specified in paragraph (h)(6)(i)(A) of this section for vessels with limited entry permits. Prohibited species must be sorted according to the following species groups: Dungeness crab, Pacific halibut, Chinook salmon, Other salmon. Non-groundfish species must be sorted as required by the state of landing.

* * * * *

6. In § 660.373, paragraph (j) is redesignated as (k), and a new paragraph (j) is added to read as follows:

§ 660.373 Pacific whiting (whiting) fishery management.

* * * * *

(j) Additional requirements for participants in the Pacific Whiting Shoreside fishery—(1) Pacific whiting shoreside first receiver responsibilities—(i) Weights and measures. All groundfish weights reported on fish tickets must be recorded from scales with appropriate weighing capacity that ensures accuracy for the amount of fish being weighed. For example: amounts of fish less than 1,000 lb (454 kg) should not be weighed on scales that have an accuracy range of 1,000 lb-7,000 lb (454 - 3,175 kg) and are therefore not capable of accurately weighing amounts less than 1,000 lb (454 kg).

(ii) Electronic fish tickets—(A) Hardware and software requirements. First receivers using the electronic fish ticket software provided by Pacific States Marine Fish Commission are required to meet the hardware and software requirements below. Those whiting first receivers who have NMFS-approved software compatible with the standards specified by Pacific States Marine Fish Commission for electronic fish tickets are not subject to any specific hardware or software requirements.

(1) A personal computer with Pentium 75-MHz or higher. Random Access Memory (RAM) must have sufficient megabyte (MB) space to run the operating system, plus an additional 8 MB for the software application and available hard disk space of 217 MB or greater. A CD-ROM drive with a Video Graphics Adapter(VGA) or higher resolution monitor (super VGA is recommended).

(2) Microsoft Windows 2000 (64 MB or greater RAM required), Windows XP (128 MB or greater RAM required) or later operating system.

(3) Microsoft Access 2003 or newer for:

(i) NMFS Approved Software Standards and Internet Access.

The Pacific whiting shoreside first receiver is responsible for obtaining, installing and updating electronic fish tickets software either provided by Pacific States Marine Fish Commission, or compatible with the data export specifications specified by Pacific States Marine Fish Commission and for maintaining internet access sufficient to transmit data files via email. Requests for data export specifications can be submitted to: Attn: Frank Lockhart, National Marine Fisheries Service, Northwest Region Sustainable Fisheries Division, 7600 Sand Point Way NE, Seattle, WA 98115, or via email to frank.lockhart@noaa.gov.

(ii) Maintenance. The Pacific whiting shoreside first receiver is responsible for ensuring that all hardware and software required under this subsection are fully operational and functional whenever the Pacific whiting primary season deliveries are accepted.

(2) Pacific whiting shoreside first receivers and processors that receive groundfish species other than Pacific whiting in excess of trip limits from Pacific whiting shoreside vessels fishing under an EFP issued by the Assistant Regional Administrator are authorized to possess the catch.

(3) Vessel owners and operators, first receivers, or shoreside processor owners, or managers may contact NMFS in writing to request assistance in improving data quality and resolving monitoring issues. Requests may be submitted to: Attn: Frank Lockhart, National Marine Fisheries Service, Northwest Region Sustainable Fisheries Division, 7600 Sand Point Way NE, Seattle, WA 98115, or via email to frank.lockhart@noaa.gov.

* * * * *

[FR Doc. E7-17523 Filed 9-4-07; 8:45 am]

BILLING CODE 3510-22-S